OFFICE OF GOVERNMENT ETHICS

Agency Information Collection Activities; Submission for OMB Review; Proposed Collection; Comment Request for an Unmodified SF 278 Executive Branch Personnel Public Financial Disclosure Report

AGENCY: Office of Government Ethics (OGE).

ACTION: Notice of request for agency and public comments.

SUMMARY: After publication of this second round notice, OGE intends to submit an unmodified Standard Form 278 Executive Branch Personnel Public Financial Disclosure Report to the Office of Management and Budget (OMB) for review and approval of a three-year extension under the Paperwork Reduction Act of 1995 (44 U.S.C. chapter 35).

DATES: Written comments by the public and the agencies on this proposed extension are invited and must be received by July 2, 2010.

ADDRESSES: Comments may be submitted, identified by the title of the information collection activity, to the Office of Information and Regulatory Affairs, Attn: Ms. Sharon Mar, OMB Desk Officer for the Office of Government Ethics, by either of the following methods within 30 days from the date of publication in this Federal Register:

FAX: 202-395-6974, Attn: Ms. Sharon Mar, OMB Desk Officer for the Office of Government Ethics;

E-mail: smar@omb.eop.gov.

FOR FURTHER INFORMATION CONTACT: Mr. Paul Ledvina at the Office of Government Ethics; telephone: 202-482-9247; TTY: 800-877-8339; FAX: 202-482-9237; E-mail: paul.ledvina@oge.gov. An electronic copy of the SF 278 is available in the Forms Library section of OGE's Web site at http://www.usoge.gov. A paper copy may also be obtained, without charge, by contacting Mr. Ledvina.

SUPPLEMENTARY INFORMATION: Title: Executive Branch Personnel Public Financial Disclosure Report.

Form Number: SF 278.

OMB Control Number: 3209-0001.

Type of Information Collection: Extension without change of a currently approved collection.

Type of Review Request: Regular.

Respondents: Private citizen Presidential nominees to executive branch positions subject to Senate confirmation; other private citizens who are potential (incoming) Federal employees whose positions are designated for public financial disclosure filing; those who file termination financial disclosure reports for such positions after their Government service ends; and Presidential and Vice-Presidential candidates.

Estimated Annual Number of Respondents: 1,300.

Estimated Time per Response: 3 hours.

Estimated Total Annual Burden: 3,900 hours.

Abstract: The SF 278 collects information from certain officers and high-level employees in the executive branch for conflicts of interest review and public disclosure. The form is also completed by individuals who are nominated by the President for high-level executive branch positions requiring Senate confirmation and new entrants to other public reporting positions in the executive branch. The financial information collected relates to: assets and income; transactions; gifts, reimbursements and travel expenses; liabilities; agreements or arrangements; outside positions; and compensation over $5,000 paid by a source—all subject to various reporting thresholds and exclusions. The information is collected in accordance with section 102 of the Ethics Act, 5 U.S.C. app. section 102, and OGE's implementing financial disclosure regulations at 5 CFR part 2634.

Request for Comments: OGE published a first round notice of its intent to request paperwork clearance for the proposed unmodified SF 278 Executive Branch Personnel Public Financial Disclosure Report on March 19, 2010 (see 75 FR 13287). OGE received no responses to that notice. Agency and public comment is again invited specifically on the need for and practical utility of this information collection, the accuracy of OGE's burden estimate, the enhancement of quality, utility and clarity of the information collected, and the minimization of burden (including the use of information technology). Comments received in response to this notice will be summarized for, and may be included with, the OGE request for extension of OMB paperwork approval. The comments will also become a matter of public record.

Approved: May 26, 2010.
Robert I. Cusick,
Director, Office of Government Ethics.

[FR Doc. 2010-13187 Filed 6-1-10; 8:45 am]

BILLING CODE 6345-03-P